DEPARTMENT OF VETERANS AFFAIRS

Voluntary Service National Advisory Committee, Notice of Meeting

The Department of Veterans Affairs (VA) gives notice under the Federal Advisory Committee Act, 5 U.S.C. app. 2, that the Executive Committee of the VA Voluntary Service (VAVS) National Advisory Committee (NAC) will meet October 12-13, 2022, at Disabled American Veterans National Service and Legislative Headquarters, 807 Maine Avenue SW, Washington, DC.

Meeting date(s): | Meeting time(s):
Wednesday, October 12, 2022 | 9:00 a.m. to 5:00 p.m. Eastern Daylight Time (EDT).
Thursday, October 13, 2022 | 9:00 a.m. to 12:30 p.m. EDT.

The meeting sessions open to the public.

The Committee, comprised of 55 major Veteran, civic, and service organizations, advises the Secretary, through the Under Secretary for Health, on the coordination and promotion of volunteer activities and strategic partnerships within VA health care facilities, in the community, and on matters related to volunteerism and charitable giving. The Executive Committee consists of 20 representatives from the NAC member organizations.

Agenda topics will include the NAC goals and objectives; review of minutes from the April 27, 2022, Executive Committee meeting; an update on VA Center for Development and Civic Engagement (CDCE) activities; Veterans Health Administration updates; subcommittee reports; review of standard operating procedures; review of fiscal year 2022 organization data; 2023 NAC annual meeting plans; and any new business.

No time will be allocated at this meeting for receiving oral presentations from the public. However, the public may submit written statements for the Committee's review to Dr. Sabrina C. Clark, Designated Federal Officer, VA Center for Development and Civic Engagement (15CDCE), Department of Veterans Affairs, 810 Vermont Avenue NW, Washington, DC 20420, or email at Sabrina.Clark@VA.gov. Any member of the public wishing to attend the meeting or seeking additional information should contact Dr. Clark at 202-461-7300.

Dated: September 26, 2022.
Jelessa M. Burney,
Federal Advisory Committee Management Officer.

[FR Doc. 2022-21137 Filed 9-28-22; 8:45 am]

BILLING CODE 8320-01-P